DEPARTMENT OF THE INTERIOR

National Park Service

[NPS-WASO-NAGPRA-14191; PPWOCRADN0-PCU00RP14.R50000]

Notice of Intent To Repatriate Cultural Items: U.S. Department of the Interior, Bureau of Land Management, Alaska State Office, Anchorage, AK

AGENCY: National Park Service, Interior.

ACTION: Notice.

SUMMARY: The U.S. Department of the Interior, Bureau of Land Management (BLM), Alaska State Office, in consultation with the appropriate Indian tribes or Native Hawaiian organizations, has determined that the items listed in this notice meet the definition of unassociated funerary objects. Lineal descendants or representatives of any Indian tribe or Native Hawaiian organization not identified in this notice that wish to claim these items should submit a written request to the BLM Alaska State Office. If no additional claimants come forward, transfer of control of the items to the lineal descendants, Indian tribes, or Native Hawaiian organizations stated in this notice may proceed.

DATES: Lineal descendants or representatives of any Indian tribe or Native Hawaiian organization not identified in this notice that wish to claim these items should submit a written request with information in support of the claim to the BLM Alaska State Office at the address in this notice by January 2, 2014.

ADDRESSES: Robert E. King, Alaska State NAGPRA Coordinator, Bureau of Land Management, 222 W. 7th Avenue, Box 13, Anchorage, AK 99513-7599, telephone (907) 271-5510.

SUPPLEMENTARY INFORMATION: Notice is here given in accordance with the Native American Graves Protection and Repatriation Act (NAGPRA), 25 U.S.C. 3005, of the intent to repatriate items under the control of the BLM Alaska State Office and in the physical custody of the American Museum of Natural History, New York, NY, that meet the definition of unassociated funerary objects under 25 U.S.C. 3001.

This notice is published as part of the National Park Service's administrative responsibilities under NAGPRA, 25 U.S.C. 3003(d)(3). The determinations in this notice are the sole responsibility of the museum, institution, or Federal agency that has control of the Native American items. The National Park Service is not responsible for the determinations in this notice.

History and Description of the Items

Between 1931 and 1932, 86 partial sets of polar bear skulls were removed from the vicinity of the “Kukulik” Eskimo burial mound (also spelled “Kookoolik”), about four miles east of the village of Savoonga, on St. Lawrence Island, AK. Surviving records report that at least one skull was recovered from a depth of “3 feet and nine inches, but on clay bottom, associated with objects of the Old Bering Sea culture.” The excavation was done by, or under authority of, Dr. Otto Geist, who was affiliated with the Alaska Agricultural College and School of Mines (today called the University of Alaska, Fairbanks, AK). No human remains or other items are known to have been removed during this excavation. At an unknown date after 1932, these polar bear skulls were sent to the American Museum of Natural History, New York, NY (AMNH).

In 1957, one partial polar bear skull was removed from the vicinity of the same “Kukulik” Eskimo burial mound (also spelled “Kookoolik”), about four miles east of the village of Savoonga on St. Lawrence Island, AK. The excavation was done by, or under authority of, Dr. Otto Geist, whose affiliation was then reported as the University of Alaska at Fairbanks, AK. No human remains or other items are known to have been removed during this excavation. At an unknown date after 1957, this polar bear skull was sent to the AMNH.

Between 1931 and 1947, 204 partial sets of animal bones were likely removed from the vicinity of human burials on St. Lawrence Island, AK, by Dr. Otto Geist or under his authority. At the time, Dr. Geist was associated with the Alaska Agricultural College and School of Mines (today called the University of Alaska in Fairbanks, AK). Dr. Geist was also associated during some or all of this time with the University of Alaska Museum of the North at Fairbanks, AK. The 204 partial sets of animal remains include 200 partial polar bear skulls, two dog skulls, and two post cranial dog skeletons lacking skulls. Between 1931 and 1947, these animal bones were sent to the AMNH.

Dr. Geist's records at the AMNH state that some of the polar bear skulls came from surface contexts and others from subsurface contexts. As no records identify the specific provenience for each specimen, the exact numbers of surface-collected and subsurface-collected specimens are unknown. Of the 291 sets of animal bones listed in this notice, those found on the surface are approximately one or two centuries old. If they were any older, natural erosion from freeze-thaw action and consumption by animals would have destroyed them. The specimens found in buried contexts, including at least one partial polar bear skull was found at a depth of three feet and nine inches below the surface, may reasonably be connected to the Old Bering Sea culture of the region, and date from about 200 B.C. to 500 A.D.

Ethnohistorical and genetic data indicate a continuity of cultural occupation of St. Lawrence Island from at approximately 300 A.D. to the present. Historical accounts and oral tradition presented by representatives of the Native Village of Gambell and the Native Village of Savoonga support this evidence for occupation, as well as the custom of placing polar bear skulls and dog remains at or near human graves. Based on the provenience, type, and condition of the animal remains, they are directly associated with Native American inhabitants of St. Lawrence Island. Descendants of these inhabitants are members of the Native Village of Gambell and the Native Village of Savoonga, who have made a joint request for these animal bones.

Determinations Made by the BLM Alaska State Office

Officials of the BLM Alaska State Office have determined that:

• Pursuant to 25 U.S.C. 3001(3)(B), the 291 items described above are reasonably believed to have been placed with or near individual human remains at the time of death or later as part of the death rite or ceremony; the human remains are not in the possession or control of the BLM Alaska State Office; and the items can be identified by a preponderance of the evidence to have been removed from the specific burial sites of Native American individuals culturally affiliated with a particular Indian tribe.

• Pursuant to 25 U.S.C. 3001(2), there is a relationship of shared group identity that can be reasonably traced between the items and the Native Village of Gambell and the Native Village of Savoonga.

Additional Requestors and Disposition

Lineal descendants or representatives of any Indian tribe or Native Hawaiian organization not identified in this notice that wish to claim these items should submit a written request with information in support of the claim to Robert E. King, Alaska State NAGPRA Coordinator, Bureau of Land Management, 222 W. 7th Avenue, Box 13, Anchorage, AK 99513-7599, telephone (907) 271-5510, by January 2, 2014. After that date, if no additional claimants have come forward, transfer of control of the unassociated funerary objects to the Native Village of Gambell and the Native Village of Savoonga may proceed.

The BLM Alaska State Office is responsible for notifying the Native Village of Gambell and the Native Village of Savoonga that this notice has been published.

Dated: September 26, 2013.
David Tarler,
Acting Manager, National NAGPRA Program.

[FR Doc. 2013-28913 Filed 12-2-13; 8:45 am]

BILLING CODE 4312-50-P